DEPARTMENT OF LABOR

Office of the Secretary

Agency Information Collection Activities; Submission for OMB Review; Comment Request; Workforce Innovation and Opportunity Act Common Performance Reporting; Correction

ACTION: Notice; Correction.

SUMMARY: The Department of Labor published a document in the Federal Register of April 26, 2016, inviting public comments on the Workforce Innovation and Opportunity Act Common Performance Reporting Information Collection Request (81 FR 24654). The document contained a Web site that has changed in order to review the request and incorrect burden summary information.

FOR FURTHER INFORMATION CONTACT: Contact Michel Smyth by telephone at 202-693-4129 (this is not a toll-free number) or by email to DOL_PRA_PUBLIC@dol.gov.

Correction

In the Federal Register of April 26, 2016, in FR Doc. 2016-09637, on page 24654, (81 FR 24654) in the second column, correct the first paragraph of the ADDRESSES caption to read:

ADDRESSES: A copy of this ICR with applicable supporting documentation; including a description of the likely respondents, proposed frequency of response, and estimated total burden may be obtained free of charge from the RegInfo.gov Web site at http://www.reginfo.gov/public/do/PRAViewICR?ref_nbr=201604-1205-008 or by contacting Michel Smyth by telephone at 202-693-4129 (this is not a toll-free number) or by email at DOL_PRA_PUBLIC@dol.gov.

On page 24655 of the same document, (81 FR 24655) in the second column, correct the 5th paragraph of the SUPPLEMENTARY INFORMATION caption to read:

Interested parties are encouraged to send comments to the OMB, Office of Information and Regulatory Affairs at the address shown in the ADDRESSES section within thirty (30) days of publication of this notice in the Federal Register. In order to help ensure appropriate consideration, comments should mention OMB ICR Reference Number 201604-1205-008.

On page 24655 of the same document, (81 FR 24655) also in the second column, correct the 13th paragraph of the SUPPLEMENTARY INFORMATION caption to read:

OMB ICR Reference Number: 201604-1205-008.

On page 24655 of the same document, (81 FR 24655) also in the second column, correct the 15th through 18th paragraphs of the SUPPLEMENTARY INFORMATION caption to read:

Total Estimated Number of Respondents: 16,246,121.

Total Estimated Number of Responses: 32,456,962.

Total Estimated Annual Time Burden: 8,372,737 hours.

Total Estimated Other Costs: $26,147,067.

Dated: May 4, 2016.
Michel Smyth,
Departmental Clearance Officer.

[FR Doc. 2016-10806 Filed 5-6-16; 8:45 am]

BILLING CODE 4510-FN-P